NUCLEAR REGULATORY COMMISSION

[Docket No. 72-25]

Foster Wheeler Environmental Corporation, Idaho Spent Fuel Facility; Issuance of Environmental Assessment and Finding of No Significant Impact Regarding a Proposed Exemption

AGENCY: Nuclear Regulatory Commission.

ACTION: Environmental assessment.

FOR FURTHER INFORMATION CONTACT: James R. Hall, Senior Project Manager, Spent Fuel Project Office, Office of Nuclear Material Safety and Safeguards, U.S. Nuclear Regulatory Commission, Washington, DC 20555. Telephone: (301) 415-8500; fax number: (301) 425-8555; e-mail: jrh@nrc.gov.

SUPPLEMENTARY INFORMATION: The U.S. Nuclear Regulatory Commission (NRC or the Commission) is considering issuance of an exemption, pursuant to 10 CFR 72.7, from the provisions of 10 CFR 72.70(a)(1) to the Foster Wheeler Environmental Corporation (FWENC or licensee). This regulation requires that each specific licensee under 10 CFR part 72 submit an original Final Safety Analysis Report (FSAR) to the Commission within 90 days after issuance of the license. The NRC granted a license for the Idaho Spent Fuel (ISF) Facility, an independent spent fuel storage installation (ISFSI) to be located at the Idaho National Engineering and Environmental Laboratory (INEEL), to FWENC on November 30, 2004. The requested exemption would allow FWENC to submit an original FSAR for the ISF Facility no later than August 28, 2005, or no later than 30 days prior to the commencement of construction, whichever comes first. FWENC submitted the exemption request on February 2, 2005.

Environmental Assessment (EA)

Identification of Proposed Action: The licensee requested an exemption from the requirement in 10 CFR 72.70(a)(1), which states that each licensee shall submit an original FSAR to the Commission, in accordance with 10 CFR 72.4, within 90 days after issuance of the license. The requested exemption would allow the licensee to delay the submittal of the original FSAR for the ISF Facility by up to 6 months (no later than August 28, 2005, or 30 days prior to commencement of construction, whichever comes first).

The proposed action before the Commission is whether to grant this exemption pursuant to 10 CFR 72.7.

Need for the Proposed Action: The NRC granted a license to construct and operate the ISF Facility to FWENC on November 30, 2004. FWENC will build and operate the facility under a contract with the U. S. Department of Energy (DOE). The ISF Facility represents an additional milestone in the 1995 settlement agreement among DOE, the U.S. Navy, and the State of Idaho regarding the disposition of spent nuclear fuel at INEEL.

The exemption would allow the licensee additional time to submit an original FSAR beyond February 28, 2005, which is 90 days from the date the facility license was issued. As part of its justification for the exemption request, FWENC indicated that it has held recent discussions with DOE to determine whether the FSAR and related documents contain sensitive information that should be withheld from public disclosure. These discussions were prompted in part by recent NRC actions to reassess its policy and practices on release of sensitive information; however, the NRC has not yet provided any new direction to licensees on this subject. FWENC has not yet made its determination, but it may need to expend more resources and/or time to prepare the FSAR and associated justifications if it elects to request that parts of the document be withheld. In order to allow it more time to identify what parts of the FSAR, if any, are to be withheld, to prepare the necessary justifications, and to revise the document accordingly, the licensee has requested the subject exemption.

Environmental Impacts of the Proposed Action: The NRC staff previously evaluated the environmental impacts resulting from the construction, operation and decommissioning of the ISF Facility, and determined that such impacts would be acceptably small. The staff's conclusions are documented in the “Environmental Impact Statement (EIS) for the Proposed Idaho Spent Fuel Facility at the Idaho National Engineering and Environmental Laboratory in Butte County, Idaho (Final Report), NUREG-1773,” issued in January 2004. The proposed action under consideration would not change the staff's previous conclusions in the EIS regarding environmental impacts, because the proposed exemption is an administrative action that will not affect the physical design or operation of the ISF Facility. Therefore, there are no radiological or non-radiological impacts from a delay in submitting the FSAR, and the staff finds that the proposed exemption will not have any significant environmental impact.

Alternative to the Proposed Action: As an alternative to the proposed action, the staff considered denial of the proposed action (i.e., the “no-action” alternative). Approval or denial of the exemption request would result in no change in the environmental impacts described in the staff's final EIS. Therefore, the environmental impacts of the proposed action and the alternative action are similar.

Agencies and Persons Consulted: On February 17, 2005, Mr. Doug Walker, Senior Health Physicist with the State of Idaho INEEL Oversight Program, was contacted regarding the environmental assessment for the proposed exemption and had no comments. The NRC staff previously evaluated the environmental impacts of the ISF Facility in the final EIS issued in January 2004, and has determined that additional consultation under Section 7 of the Endangered Species Act is not required for this specific exemption which involves administrative reporting requirements and will not affect listed species or critical habitat. The NRC staff has similarly determined that the proposed exemption is not a type of activity having the potential to cause effects on historic properties. Therefore, no further consultation is required under Section 106 of the National Historic Preservation Act.

Conclusion: The staff has reviewed the exemption request submitted by FWENC and has determined that allowing the licensee to delay the submittal of the original Final Safety Analysis Report for the ISF Facility up to an additional 6 months beyond the date required by 10 CFR 72.70(a)(1) is an administrative change, and would have no significant impact on the environment.

Finding of No Significant Impact

The environmental impacts of the proposed action have been reviewed in accordance with the requirements set forth in 10 CFR part 51. Based upon the foregoing EA, the Commission finds that the proposed action of granting the exemption from 10 CFR 72.70(a)(1), so that FWENC may delay the submittal of the original FSAR for the ISF Facility, will not significantly impact the quality of the human environment. Accordingly, the Commission has determined that a Finding of No Significant Impact is appropriate, and that an environmental impact statement for the proposed exemption is not necessary.

For further details with respect to this action, see the FWENC request for exemption, dated February 2, 2005, which was docketed under 10 CFR part 72, Docket No. 72-25. This document is available for public inspection at the Commission's Public Document Room, One White Flint North Building, 11555 Rockville Pike, Rockville, MD, or from the publicly available records component of NRC's Agencywide Documents Access and Management System (ADAMS). This document may be accessed through the NRC's Public Electronic Reading Room on the Internet at http://www.nrc.gov/reading-rm/adams.html. If there are problems in accessing the documents located in ADAMS, contact the NRC Public Document Room (PDR) Reference staff at 1-800-397-4209, (301) 415-4737 or by e-mail at pdr@nrc.gov.

Dated at Rockville, Maryland, this 1st day of March, 2005.
For the Nuclear Regulatory Commission.
James R. Hall,
Senior Project Manager, Spent Fuel Project Office, Office of Nuclear Material Safety and Safeguards.

[FR Doc. 05-4549 Filed 3-8-05; 8:45 am]

BILLING CODE 7590-01-P